DEPARTMENT OF COMMERCE

International Trade Administration

[A-351-838, A-533-840, A-570-893, A-549-822]

Certain Frozen Warmwater Shrimp From Brazil, India, the People's Republic of China and Thailand: Final Results of the Expedited Second Sunset Reviews of the Antidumping Duty Orders

AGENCY: Enforcement and Compliance, International Trade Administration, Commerce.

SUMMARY: As a result of these sunset reviews, the Department of Commerce (the Department) finds that revocation of the antidumping duty (AD) orders would be likely to lead to continuation or recurrence of dumping at the dumping margins identified in the “Final Results of Reviews” section of this notice.

FOR FURTHER INFORMATION CONTACT: Kate Johnson, AD/CVD Operations, Office II, AD/CVD Operations, Enforcement and Compliance, International Trade Administration, U.S. Department of Commerce, 14th Street and Constitution Avenue NW., Washington, DC 20230; telephone: (202) 482-4929.

SUPPLEMENTARY INFORMATION:

Background

On March 1, 2016, the Department published the notice of initiation of the sunset reviews of the AD Orders ¹ on certain frozen warmwater shrimp from Brazil, India, the People's Republic of China (PRC), and Thailand, pursuant to section 751(c) of the Tariff Act of 1930, as amended (the Act).² On March 8, 2016, and March 16, 2016, respectively, the Ad Hoc Shrimp Trade Action Committee (AHSTAC (petitioner in the underlying investigation)) and the American Shrimp Processors Association (ASPA) notified the Department of their intent to participate within the 15-day period specified in 19 CFR 351.218(d)(1)(i).³ AHSTAC claimed interested party status under section 771(9)(C) of the Act stating that its individual members are each producers in the United States of a domestic like product. ASPA claimed interested party status under section 771(9)(E) of the Act stating that it is a trade association, the majority of whose members are producers and/or processors of a domestic like product in the United States.

¹ See Notice of Amended Final Determination of Sales at Less Than Fair Value and Antidumping Duty Order: Certain Frozen Warmwater Shrimp from Brazil, 70 FR 5143 (February 1, 2005); Notice of Amended Final Determination of Sales at Less Than Fair Value and Antidumping Duty Order: Certain Frozen Warmwater Shrimp from India, 70 FR 5147 (February 1, 2005); Notice of Amended Final Determination of Sales at Less Than Fair Value and Antidumping Duty Order: Certain Frozen Warmwater Shrimp From the People's Republic of China, 70 FR 5149 (February 1, 2005); and Notice of Amended Final Determination of Sales at Less Than Fair Value and Antidumping Duty Order: Certain Frozen Warmwater Shrimp from Thailand, 70 FR 5145 (February 1, 2005) (collectively, Orders).

² See Initiation of Five-Year (“Sunset”) Review, 81 FR 10578 (March 1, 2016) (Notice of Initiation). The Notice of Initiation also announced the initiation of the sunset review of the antidumping duty order on certain frozen warmwater shrimp from the Socialist Republic of Vietnam. However, the results of that sunset review will be discussed within a separate Federal Register notice in the context of a full sunset review in that case.

³ See AHSTAC March 8, 2016, submission “Second Sunset Review of the Antidumping Duty Orders on Certain Frozen Warmwater Shrimp from Brazil, India, Thailand, the People's Republic of China and the Socialist Republic of Vietnam: Entry of Appearance, Notice of Intent to Participate in Review and APO Application.” See also ASPA March 16, 2016, submissions “Second Sunset Review of the Antidumping Order on Frozen Warmwater Shrimp from Brazil (A-351-838): Notice of Intent to Participate of the American Shrimp Processors Association,” “Second Sunset Review of the Antidumping Order on Frozen Warmwater Shrimp from India (A-533-840): Notice of Intent to Participate of the American Shrimp Processors Association,” “Second Sunset Review of the Antidumping Order on Frozen Warmwater Shrimp from the People's Republic of China (A-570-893): Notice of Intent to Participate of the American Shrimp Processors Association,” and “Second Sunset Review of the Antidumping Order on Frozen Warmwater Shrimp from Thailand (A-549-822): Notice of Intent to Participate of the American Shrimp Processors Association.”

On March 29 and 31, 2016, respectively, the Department received complete substantive responses to the Notice of Initiation from AHSTAC ⁴ and from ASPA ⁵ (collectively, domestic interested parties) within the 30-day deadline specified in 19 CFR 351.218(d)(3)(i). We received no substantive responses from respondent interested parties with respect to the orders on certain frozen warmwater shrimp from Brazil, India, the PRC, or Thailand, nor was a hearing requested. As a result, pursuant to 19 CFR 351.218(e)(1)(ii)(C)(2), the Department conducted expedited (120-day) sunset reviews of the AD Orders on certain frozen warmwater shrimp from Brazil, India, the PRC, and Thailand.

⁴ See AHSTAC March 29, 2016, submission “Second Sunset Review of the Antidumping Duty Orders on Certain Frozen Warmwater Shrimp from Brazil, India, Thailand, the People's Republic of China and the Socialist Republic of Vietnam: Substantive Response to Notice of Initiation.”

⁵ See ASPA March 31, 2016, submissions “Second Sunset Review of the Antidumping Order on Frozen Warmwater Shrimp from Brazil (A-351-838): Substantive Response to Notice of Initiation,” “Second Sunset Review of the Antidumping Order on Frozen Warmwater Shrimp from India (A-533-840): Substantive Response to Notice of Initiation,” “Second Sunset Review of the Antidumping Order on Frozen Warmwater Shrimp from the People's Republic of China (A-570-893): Substantive Response to Notice of Initiation,” and “Second Sunset Review of the Antidumping Order on Frozen Warmwater Shrimp from Thailand (A-549-822): Substantive Response to Notice of Initiation.”

Scope of the Orders

The products covered by the Orders include certain frozen warmwater shrimp and prawns whether wild-caught (ocean harvested) or farm-raised (produced by aquaculture), head-on or head-off, shell-on or peeled, tail-on or tail-off,⁶ deveined or not deveined, cooked or raw, or otherwise processed in frozen form.

⁶ “Tails” in this context means the tail fan, which includes the telson and the uropods.

The frozen warmwater shrimp and prawn products included in the Orders, regardless of definitions in the Harmonized Tariff Schedule of the United States (HTSUS), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of the Orders. In addition, food preparations, which are not “prepared meals,” that contain more than 20 percent by weight of shrimp or prawn are also included in the scope of the orders.

Excluded from the Orders are: (1) Breaded shrimp and prawns (HTSUS subheading 1605.20.10.20); (2) shrimp and prawns generally classified in the Pandalidae family and commonly referred to as coldwater shrimp, in any state of processing; (3) fresh shrimp and prawns whether shell-on or peeled (HTSUS subheadings 0306.23.00.20 and 0306.23.00.40); (4) shrimp and prawns in prepared meals (HTSUS subheading 1605.20.05.10); (5) dried shrimp and prawns; (6) canned warmwater shrimp and prawns (HTSUS subheading 1605.20.10.40); (7) certain dusted shrimp; and (8) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to IQF freezing immediately after application of the dusting layer. Battered shrimp is a shrimp-based product that, when dusted in accordance with the definition of dusting above, is coated with a wet viscous layer containing egg and/or milk, and par-fried.

The products covered by the Orders are currently classified under the following HTSUS subheadings: 0306.13.00.03, 0306.13.00.06, 0306.13.00.09, 0306.13.00.12, 0306.13.00.15, 0306.13.00.18, 0306.13.00.21, 0306.13.00.24, 0306.13.00.27, 0306.13.00.40, 1605.20.10.10, and 1605.20.10.30. These HTSUS subheadings are provided for convenience and for customs purposes only and are not dispositive, but rather the written description of the scope of the orders is dispositive. The Issues and Decision Memorandum, which is hereby adopted by this notice, provides a full description of the scope of the Orders.⁷

⁷ See the Department's memorandum from Christian Marsh, Deputy Assistant Secretary for Antidumping and Countervailing Duty Operations, to Paul Piquado, Assistant Secretary for Enforcement and Compliance, “Issues and Decision Memorandum for the Expedited Second Sunset Reviews of the Antidumping Duty Orders on Certain Frozen Warmwater Shrimp from Brazil, India, the People's Republic of China, and Thailand,” dated concurrently with this notice (Issues and Decision Memorandum).

Analysis of Comments Received

A complete discussion of all issues raised in these reviews is provided in the accompanying Issues and Decision Memorandum. The issues discussed in the Issues and Decision Memorandum include the likelihood of continuation or recurrence of dumping and the magnitude of the margins likely to prevail if the Orders were revoked. The Issues and Decision Memorandum is a public document and is on file electronically via Enforcement and Compliance's Antidumping and Countervailing Duty Centralized Electronic Service System (ACCESS). ACCESS is available to registered users at http://access.trade.gov and to all parties in the Central Records Unit, room B8024 of the main Department of Commerce building. In addition, a complete version of the Issues and Decision Memorandum can be accessed at http://enforcement.trade.gov/frn/. The signed Issues and Decision Memorandum and the electronic version of the Issues and Decision Memorandum are identical in content.

Final Results of Reviews

Pursuant to sections 751(c)(1) and 752(c)(1) and (3) of the Act, the Department determines that revocation of the AD Orders on certain frozen warmwater shrimp from Brazil, India, the PRC, and Thailand would be likely to lead to continuation or recurrence of dumping, and that the magnitude of the dumping margins likely to prevail would be weighted-average margins up to 67.80 percent for Brazil, up to 110.90 percent for India, up to 112.81 percent for the PRC, and up to 5.34 percent for Thailand.

Notification Regarding Administrative Protective Orders

This notice also serves as the only reminder to parties subject to administrative protective orders (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the results and notice in accordance with sections 751(c), 752(c), and 777(i)(1) of the Act.

Dated: June 28, 2016.
Paul Piquado,
Assistant Secretary for Enforcement and Compliance.

[FR Doc. 2016-16053 Filed 7-6-16; 8:45 am]

BILLING CODE 3510-DS-P